DEPARTMENT OF ENERGY

Federal Energy Regulatory Commission

[Docket No. CP00-51-000]

East Tennessee Natural Gas Company; Notice of Intent To Prepare an Environmental Assessment for the Proposed Rocky Top Expansion Project, and Request for Comments on Environmental Issues

March 27, 2000.

The staff of the Federal Energy Regulatory Commission (FERC or Commission) will prepare an environmental assessment (EA) that will discuss the environmental impacts of the construction, testing, operation, and abandonment of facilities proposed in the East Tennessee Natural Gas Company (East Tennessee) Rocky Top Expansion Project in various counties of Virginia and Tennessee.¹ These facilities would consist of about 15.1 miles of pipeline, about 0.7 mile of pipeline replacement at seventeen road crossings, three new meter stations and a modification to an existing meter station, mainline valves, uprating of four compressor units and four meter stations, hydrostatic testing of about 26.7 miles of pipeline to increase the maximum allowable operating pressure (MAOP), and the abandonment of about 0.7 mile of pipeline. The EA will be used by the Commission in its decision-making process to determine whether the project is in the public convenience and necessity.

¹ East Tennessee's application was filed with the Commission on December 13, 1999, under Section 7 of the Natural Gas Act and Part 157 of the Commission's regulations.

If you are a landowner on East Tennessee's proposed route and receive this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled ”An Interstate Natural Gas Facility On My Land? What Do I Need To Know?” was attached to the project notice East Tennessee provided to landowners along and adjacent to the proposed route. This fact sheet addresses a number of typically asked questions, including the use of eniment domain and how to participate in the Commission's proceedings. It is available for viewing on the FERC Internet website (www.ferc.fed.us).

This Notice of Intent (NOI) is being sent to landowners of property crossed by and adjacent to East Tennessee's proposed route; Federal, state, and local agencies; elected officials; environmental and public interest groups; Indian tribes that might attach religious and cultural significance to historic properties in the area of potential effects; local libraries and newspapers; and the Commission's list of parties to the proceeding. State and local government representatives are encouraged to notify their constituents of this proposed action and encourage them to comment on their areas of concern.

Additionally, with this NOI we ² are asking those Federal, state, local, and tribal agencies with jurisdiction and/or special expertise with respect to environmental issues to cooperate with us in the preparation of the EA. These agencies may choose to participate once they have evaluated East Tennessee's proposal relative to their agencies' responsibilities. Agencies who would like to request cooperating status should follow the instructions for filing comments described below.

² “We,” “us,” and “our” refer to the environment staff of the Office of Energy Projects, part of the Commission staff.

Summary of the Proposed Project

East Tennessee is proposing the Rocky Top Expansion Project to satisfy the growing demand for natural gas in the western Virignia and eastern Tennessee regions. The project would provide new firm service to meet increased market demand of specific customers as well as provide system-wide benefits. East Tennessee is requesting authorization to increase its pipeline capacity by a total of 35,068 dekatherms (Dth) per day through the installation of additional pipeline, hydrostatic testing to increase MAOP, pipeline replacement, compressor horsepower and meter station uprates, and installation of additional metering facilities.

East Tennessee proposes to construct the following new facilities on its 3300 and 3100 Lines.

• About 15.1 miles of 12-inch-diameter pipeline loop ³ in Wythe, Smyth, and Washington Counties, Virginia;

³ A loop is a segment of pipeline that is installed adjacent to an existing pipeline and connected to it on both ends. The loop allows more gas to be moved through the pipeline system.

• Four new meter stations—the Hawkins Meter Station in Greene County, Tennessee; the Lenoir City Meter Station in Roane County, Tennessee; the Etowah Meter Station in McMinn County, Tennessee; and a bi-directional meter station at the existing Citizens Meter Station in Morgan, County, Tennessee;

East Tennessee proposes to increase the MAOP of several sections on its 3100 and 3200 Lines through hydrostatic testing activities and pipeline replacements at road crossings:

• Uprate the MAOP of about 12.8 miles of 22-inch-diameter pipeline from main line valve (MLV) 3107-1A in Overton County, Tennessee to MLV 3108-1 in Fentress County, Tennessee, through hydrostatic testing, including pipeline replacements at six road crossings, and the installation of pressure control facilities at East Tennessee's Monterey Lateral;

• Uprate the MAOP of about 4.6 miles of 22-inch-diameter pipeline from MLV 3107-1 to MLV 3107-1A in Overton County, Tennessee, through hydrostatic testing of a pipeline replacement at one road crossing; ⁴

⁴ In 1999, as part of the Virginia Expansion Project (Docket No. CP98-40-000), this 4.6 mile section was uprated by hydrostatic testing and replacing pipeline at all of the road crossings in this section, except for one.

• Uprate the MAOP of about 13.6 miles of 22-inch-diameter pipeline from MLV 3105-1 in Smith County, Tennessee to MLV 3105-1E2 in Jackson County, Tennessee, through hydrostatic testing, including pipeline replacement at ten road crossings, and the installation of pressure control facilities at East Tennessee's Carthage Lateral;

• Uprate the MAOP of the 0.3 mile dual 10-inch-diameter Tennessee River pipeline crossing in Hamilton County, Tennessee, through hydrostatic testing of the crossing, and the relocation of the river crossing valve assemblies; and

• Uprate the MAOPs of four existing meter stations on the 3200 Line in Hamilton County, Tennessee.

East Tennessee also proposes an uprate of horsepower (hp) at two compressor stations:

• Uprate of two turbine units from 1,000 hp to 1,450 hp, and one unit from 1000 hp to 1.360 hp at Station 3101 in Robertson County, Tennessee, and

• Uprate of the single turbine unit from 1,360 hp to 1,590 hp at Station 3210 in Marion County, Tennessee.

East Tennessee also proposes to replace 0.7 mile of pipeline at the seventeen road crossings in order to meet the applicable U.S. Department of Transportation strength and safety regulations applicable to the higher MAOP. As such, East Tennessee proposes to abandon by removal 0.6 mile and abandon in place 0.1 mile of pipeline to effect this replacement.

The general location of East Tennessee's proposed facilities is shown on the map attached as appendix 1.⁵

⁵ The appendices referenced in this notice are not being printed in the Federal Register. Copies are available on the Commission's website at the “RIMS” link or from the Commission's Public Reference and Files Maintenance Branch, 888 First Street, NE, Room 2A, Washington, DC 20426, or call (202) 208-1371. For instructions on connecting to RIMS refer to the last page of this notice. Copies of the appendices were sent to all those receiving this notice in the mail.

Land Requirement for Construction

Proposed Pipeline Looping—Virginia: Constructionof East Tennessee's proposed pipeline facilities would require about 241 acres of land. East Tennessee proposes to use a 100-foot-wide construction right-of-way, and retain a 50-foot wide permanent pipeline right-of-way. Total land requirements for the permanent right-of-way would be about 92 acres.

Proposed MAOP Increase and Hydrotest—Tennessee: The replacement of seventeen road crossings associated with the MAOP increase would affect about 43 acres of land during construction and would require about 7 acres of land during operation. The hydrostatic testing of about 26.7 miles of pipeline would require about 0.1 acre of temporary work space to install the proper facilities for testing. About 2.5 acres of land would be disturbed during the relocation of the existing valves at the Tennessee River crossing, of which about 0.2 acre would be permanently affected. All temporary work space would be allowed to revert to its original land use.

Proposed Meter Stations and Pressure Control Facilities—Tennessee: Construction and operation of three new meter stations would affect about 2 acres of land. About 0.2 acre of land within an existing meter station would be affected by the installation of a bi-directional meter. East Tennessee would disturb about 1 acre of land in the hydrostatic testing of its four existing meter stations, with no additional land required for operation. The installation of the pressure control facilities would require about 1.5 acres of land within the existing permanent right-of-way and would require no additional permanent operating acreage.

The EA Process

The National Environmental Policy Act (NEPA) requires the Commission to take into account the environmental impacts that could result from an action whenever it considers the issuance of a Certificate of Public Convenience and Necessity. NEPA also requires us to discover and address concerns the public may have about proposals. We call this “scoping.” The main goal of the scoping process is to focus the analysis in the EA on the important environmental issues. By this NOI, the Commission requests public comments on the scope of the issues it will address in the EA. All comments received are considered during the preparation of the EA.

Our independent analysis of the issues will be the EA. Depending on the comments received during the scoping process, the EA may be published and mailed to Federal, state, and local agencies, elected officials, affected landowners, regional public interest groups, Indian tribes, local newspapers and libraries, and the Commission's official service list for this proceeding. A comment period will be allotted for review if the EA is published. We will consider all comments on the EA before we make our recommendations to the Commission.

Currently Identified Environmental Issues

The EA will discuss impacts that could occur as a result of construction and operation of the proposed project. We have already identified a number of issues that was think deserve attention based on a preliminary review of the proposed facilities and the environmental information provided by East Tennessee. This preliminary list of issues may be changed based on your comments and our analysis.

• Geology and Soils

—Potential geologic hazards.

—Crossing of erosion prone soils.

• Water Resources and Wetlands

—Impact of groundwater and surface water resources.

—Impact on wetland hydrology.

• Biological Resources

—Impact on wildlife and fishery habitats.

—Potential impact on Federal- and State-listed threatened or endangered species.

• Cultural Resources

—Effect on prehistoric and historic sites.

—Native American concerns.

• Land Use

—Impact on residential areas (7 residences within 50 feet of the construction work area in Virginia).

—Impact on public lands and special use areas including the Tennessee River Park.

—Visual effect of the new aboveground facilities on surrounding areas.

• Air and Noise Quality

—Impacts on local air quality and noise environment as a result of the operation of the uprated horsepower units at existing Compressor Stations 3101 and 3210.

Public Participation

You can make a difference by providing us with your specific comments or concerns about the project. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded.

• Send two copies of your letter to: David P. Boergers, Secretary, Federal Energy Regulatory Commission, 888 First St., N.E., Room 1A, Washington, DC 20426;

• Label one copy of the comments for the attention of Environmental Gas Group 1, PJ-11.1;

• Reference Docket No. CP00-51-000; and

• Mail your comments so that they will be received in Washington, DC on or before April 28, 2000.

[If you do not want to send comments at this time but still want to remain on our mailing list, please return the Information Request (appendix 3). If you do not return the Information Request, you will be removed from the environmental mailing list.]

Becoming an Intervenor

In addition to involvement in the EA scoping process, you may want to become an official party to the proceeding known as an “intervenor.” intervenors play a more formal role in the process. Among other things, Intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from Mr. Paul McKee of the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-7836 Filed 3-29-00; 8:45 am]

BILLING CODE 6717-01-M